DEPARTMENT OF HEALTH AND HUMAN SERVICES

National Institutes of Health

Eunice Kennedy Shriver National Institute of Child Health and Human Development; Amended Notice of Meeting

Notice is hereby given of a change in the meeting of the National Institute of Child Health and Human Development Special Emphasis Panel, February 18, 2015, 12:00 p.m. to February 18, 2015, 5:00 p.m., Embassy Suites at the Chevy Chase Pavilion, 4300 Military Road, Washington, DC 20015 which was published in the Federal Register on January 13, 2015, 80 FR 8, page 1647.

The meeting notice is amended to change the location to the Embassy Suites at the Chevy Chase Pavilion, 4300 Military Road, Washington, DC 20015. The meeting is closed to the public.

Dated: January 29, 2015.
Michelle Trout,
Program Analyst, Office of Federal Advisory Committee Policy.

[FR Doc. 2015-02091 Filed 2-3-15; 8:45 am]

BILLING CODE 4140-01-P